DEPARTMENT OF AGRICULTURE

Food and Nutrition Service

Agency Information Collection Activities: The Role of Job Search as a Supplemental Nutrition Assistance Program (SNAP) Employment and Training (E&T) Component

AGENCY: Food and Nutrition Service (FNS), USDA.

ACTION: Notice

SUMMARY: In accordance with the Paperwork Reduction Act of 1995, this notice invites the general public and other public agencies to comment on this proposed information collection for The Role of Job Search as a Supplemental Nutrition Assistance Program (SNAP) Employment and Training (E&T) Component. This is a new information collection.

This study informs the U.S. Department of Agriculture's (USDA) Food and Nutrition Service (FNS) about the types of job search activities offered through SNAP E&T programs and their effectiveness in moving participants toward employment.

DATES: Written comments must be received on or before June 7, 2019.

ADDRESSES: Comments may be sent to Danielle Deemer, Food and Nutrition Service, U.S. Department of Agriculture, 3101 Park Center Drive, Room 10.1008, Alexandria, VA 22302. Comments may also be submitted via fax to the attention of Danielle Deemer at (703) 305-2576 or via email at danielle.deemer@usda.gov. Comments will also be accepted through the Federal eRulemaking Portal. Go to http://www.regulations.gov, and follow the online instructions for submitting comments electronically.

All written comments will be open for public inspection at the office of the Food and Nutrition Service (FNS) during regular business hours (8:30 a.m. to 5:00 p.m. Monday through Friday) at 3101 Park Center Drive, Room 10.1008, Alexandria, VA 22302.

All responses to this notice will be summarized and included in the request for Office of Management and Budget approval. All comments will be a matter of public record.

FOR FURTHER INFORMATION CONTACT: Requests for additional information or copies of this information collection should be directed to Danielle Deemer at (703) 305-2576.

SUPPLEMENTARY INFORMATION: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: The Role of Job Search as a Supplemental Nutrition Assistance Program (SNAP) Employment and Training (E&T) Component.

Form Number: N/A.

OMB Number: 0584-NEW.

Expiration Date: Not Yet Determined.

Type of Request: New Information Collection Request.

Abstract: Section 17 [7 U.S.C. 2026] (a)(1) of the Food and Nutrition Act of 2008, as amended, provides general legislative authority for the planned data collection. It authorizes the Secretary of Agriculture to enter into contracts with private institutions to undertake research that will help to improve the administration and effectiveness of SNAP in delivering nutrition-related benefits.

USDA FNS has funded The Role of Job Search as a SNAP E&T Component to better understand the overall role of job search activities in serving SNAP E&T participants and to determine which job search activities are most effective in leading SNAP participants to self-sufficiency. Although all States must operate a SNAP E&T program, they have flexibility in its design. For example, States may choose one or more of several SNAP E&T components, such as job search, on-the-job training, workfare, or vocational training, to offer to SNAP E&T participants. Of the possible activities, States most commonly report offering job search and job search training. Although studies suggest stand-alone job search activities do not lead to long-term self-sufficiency, little is known about their effect on SNAP participants specifically. There is a lack of evidence about how States integrate job search activities with other SNAP E&T components, such as education or workfare, particularly within the SNAP E&T context, and if it is an effective strategy when they do.

To address these issues, FNS is conducting a study to accomplish 3 objectives:

1. Document and describe job search activities offered and State-level E&T policies and requirements.

2. Conduct a process evaluation documenting implementation and operation of job search activities in the study States.

3. Conduct an outcome evaluation to assess short- and long-term effects of job search activities on participants.

FNS pre-selected and is recruiting for in-depth case studies 4 States representing a range of SNAP E&T job search activities. No other States will be included in the study. The study will gather data through site visits to the 4 States and phone interviews with up to 200 total current and former SNAP E&T job search participants (individuals/households) in the study States. The study will also gather SNAP administrative caseload data and Unemployment Insurance (UI) quarterly wage data from the 4 study States. Data will be collected in each of the 4 study States through (1) interviews with the State SNAP director and E&T manager; (2) in-person interviews with staff, process-mapping group discussions with staff, and observations at 2 Local SNAP offices; and (3) in-person staff interviews and observations at 2 Local E&T providers (Business-for-not-for-profit). These data will provide information on overall State policies, the E&T process and client flow through the process, and staff perspectives on the effects of job search on participant outcomes. Phone interviews with up to 50 current and former SNAP E&T job search participants in each of the 4 study States will provide client perspectives on E&T activities and outcomes. SNAP administrative caseload data will be used to examine the characteristics of E&T participants in each State and will be linked with the UI wage data to assess short- and long-term outcomes associated with SNAP E&T job search participation.

Affected Public: (1) State, Local and Tribal Governments; (2) Business-for-not-for-Profit; and (3) Individuals/Households.

Respondent groups identified include the following:

1. State, Local, and Tribal Government: State SNAP directors, State E&T managers, State SNAP database administrators, State UI database administrators, and State UI Agency liaisons in each of the 4 study States; Local SNAP office staff in each of 4 study States; staff at 3 State E&T providers; and staff at other stakeholder organizations in each of the 4 study States, such as departments of labor ¹

¹ The study assumes information will be collected from 4 States.

2. Business For Profit: Staff at 2 Business E&T providers and Not For Profit: Staff at 3 Not-For-Profit E&T providers

3. Individuals: SNAP Participants in 4 study States

Note that the E&T providers are assumed to be a mix of State, Business for-Profit-not-for-Profit organizations (i.e., 3 State, 2 For-Profit, and 3 Not-For-Profit E&T providers total).

Estimated Number of Respondents: The total estimated number of respondents in the 4 study States is 454 (98 State and Local Government staff, 12 Business for-Profit staff, 18 Business not-for-Profit staff, and 326 Individuals). Of the 454 contacted, 369 are estimated to be responsive and 85 are estimated to be nonresponsive. The breakout follows:

1. 98 State and Local Government staff: All State and local government staff contacted in the 4 study States are expected to respond; of 8 State SNAP staff contacted, 8 are estimated to be responsive; of 4 State database administrators contacted, 4 are estimated to be responsive; of 4 UI Agency Database Administrators, 4 are estimated to be responsive; of 4 UI Agency data usage agreement (DUA) Liaisons, 4 are expected to be responsive; of 4 stakeholder staff contacted, 4 are expected to be responsive; of 18 State E&T provider staff contacted, 18 are estimated to be responsive; of 56 Local office staff contacted, 56 are estimated to be responsive.

2. 12 Business or Other For-Profit staff: Of 12 Business E&T provider staff contacted, 12 are estimated to be responsive.

3. 18 Not-For-Profit staff: Out of 18 Not-For-Profit E&T provider staff contacted, 18 are estimated to be responsive.

4. 326 Individuals: Of 326 individuals contacted, 241 are estimated to be responsive and 85 are non-responsive.

Estimated Number of Responses per Respondent: 1.62—based on 735 total annual responses (625 responsive and 110 nonresponsive) made by the 454 respondents (369 responsive and 85 nonresponsive). See table 1 for the estimated number of responses per respondent for each type of respondent.

The breakout follows:

1. State SNAP Staff: The estimated number of responses per State SNAP staff is 2:

• 4 State SNAP directors will respond to advance materials and scheduling; the same 4 State SNAP directors plus 4 additional State E&T managers/directors will take part in interviews. The same 4 State E&T managers will complete the administrative cost worksheet.

2. State SNAP Database Administrators: The estimated number of responses per State SNAP Database Administrator is 3:

• 4 State SNAP database administrators will respond to advance materials and scheduling; the same 4 State SNAP database administrators will submit both a test and a final administrative data file.

3. State UI Agency Database Administrators: The estimated number of responses per State UI Database Administrator is 2:

• 4 State UI database Administrators will respond to advance materials and scheduling; the same 4 State UI database administrators will submit the UI wage data file.

4. State UI Agency Liaisons: The estimated number of responses per State UI Agency Administrator is 1:

• 4 State UI Agency liaisons will complete the data usage agreement (DUA) for the contractor to obtain the UI wage data.

5. Stakeholder Agency Staff: The estimated number of responses per other Stakeholder staff is 2:

• 4 Other Stakeholder staff will respond to advance materials and scheduling; the same 4 staff members take part in interviews.

6. State E&T Provider Staff: The estimated number of responses per State E&T provider staff is 1.17:

• 3 State E&T provider staff will respond to advance materials and scheduling; the same 3 E&T provider staff plus 12 additional E&T provider staff will take part in interviews. Three additional E&T provider staff will participate in observations of the E&T process.

7. Local SNAP Office Staff: The estimated number of responses per Local SNAP office staff is 1.43:

• 8 Local SNAP office staff will respond to advance materials and scheduling; the same 8 Local SNAP office staff plus 16 additional Local SNAP office staff will take part in interviews. Sixteen of the Local SNAP office staff plus 24 additional Local SNAP office staff will take part in a group process mapping exercise. Eight additional Local office staff will participate in observations of the E&T process.

8. For-Profit E&T Provider Staff: The estimated number of responses per Business E&T provider staff is 1.17:

• 2 For-Profit E&T provider staff will respond to advance materials and scheduling; the same 2 For-Profit E&T provider staff plus 8 additional For-Profit E&T provider staff will take part in interviews. An additional 2 For-Profit E&T Provider staff will participate in observations of the E&T process.

9. Not-For-Profit E&T Provider Staff: The estimated number of responses per Not-For-Profit E&T provider staff is 1.17:

• 3 Not-For-Profit E&T provider staff will respond to advance materials and scheduling, the same 3 Not-For-Profit E&T provider staff plus 12 additional Not-For-Profit E&T provider staff will take part in interviews. An additional 3 Not-For-Profit E&T provider staff will participate in observations of the E&T process.

10. Individuals (SNAP Participants). The estimated number of responses per Individual is 1.83:

• 16 Individuals will participate in observations of the E&T process at Local offices or provider sites.

• 310 Individuals will receive an advance letter and be recruited to participate in the interviews and 225 will respond and schedule an interview (85 other Individuals will not respond to the recruitment process). Of the 225 respondents, 200 will complete the interview (25 Individuals will not complete the interview).

Estimated Total Annual Responses: 735 (625 annual responses for responsive participants and 110 annual responses for nonresponsive participants).

Estimated Time per Response: 0.6957142857 hours (0.81 hours for responsive participants and 0.05 hours for nonresponsive participants). The estimated time of response varies from 0.05 hours to 15 hours depending on respondent group and activity.

Estimated Annual Burden Hours: 511.35.

See entire burden breakout in Table 1 below.

Table 1—Total Public Burden Hours
Respondent category | Type of respondent | Instruments and activities | Sample size | Responsive: Number of respondents | Responsive: Frequency of response | Responsive: Total annual responses | Responsive: Hours per response | Responsive: Annual burden (hours) | Nonresponsive: Number of non- respondents | Nonresponsive: Frequency of response | Nonresponsive: Total annual responses | Nonresponsive: Hours per response | Nonresponsive: Annual burden (hours) | Grand total annual burden estimate (hours)
State, Local, and Tribal Government
State/Local/Tribal Government Sub-Total | State SNAP Staff | Advance materials and preparation, including all conference and scheduling calls | 4 | 4 | 1 | 4 | 3 | 12 | 0 | 0 | 0 | 0 | 0 | 12
| State SNAP Staff | In-person semi-structured interviews with SNAP Directors and E&T Managers | 8 | 8 | 1 | 8 | 1.5 | 12 | 0 | 0 | 0 | 0 | 0 | 12
| State SNAP Staff | Administrative Cost Worksheet | 4 | 4 | 1 | 4 | 1 | 4 | 0 | 0 | 0 | 0 | 0 | 4
| Subtotal for State SNAP Staff (Unique) |  | 8 | 8 | 2 | 16 | 1.75 | 28 | 0 | 0 | 0 | 0 | 0 | 28
| State SNAP Database administrator | Advance materials and preparation, including consultative data call | 4 | 4 | 1 | 4 | 3 | 12 | 0 | 0 | 0 | 0 | 0 | 12
| State SNAP Database administrator | Submit test file | 4 | 4 | 1 | 4 | 4 | 16 | 0 | 0 | 0 | 0 | 0 | 16
| State SNAP Database administrator | Submit administrative data file | 4 | 4 | 1 | 4 | 10 | 40 | 0 | 0 | 0 | 0 | 0 | 40
| Subtotal for State Database Administrator (Unique) |  | 4 | 4 | 3 | 12 | 5.67 | 68 | 0 | 0 | 0 | 0 | 0 | 68
| State UI Agency Database Administrator | Advance materials and preparation, including consultative data call | 4 | 4 | 1 | 4 | 3 | 12 | 0 | 0 | 0 | 0 | 0 | 12
| State UI Agency Database Administrator | Submit UI wage data file | 4 | 4 | 1 | 4 | 15 | 60 | 0 | 0 | 0 | 0 | 0 | 60
| Subtotal for State UI Agency Database Administrator (Unique) |  | 4 | 4 | 2 | 8 | 9 | 72 | 0 | 0 | 0 | 0 | 0 | 72
| State UI Agency DUA Liaison | Complete UI Wage Data DUA | 4 | 4 | 1 | 4 | 8 | 32 | 0 | 0 | 0 | 0 | 0 | 32
| Subtotal UI Agency DUA Liaison (Unique) |  | 4 | 4 | 1 | 4 | 8 | 32 | 0 | 0 | 0 | 0 | 0 | 32
| SNAP E&T Job Search Stakeholder Agency | Advance materials and preparation | 4 | 4 | 1 | 4 | 1 | 4 | 0 | 0 | 0 | 0 | 0 | 4
| SNAP E&T Job Search Stakeholder Agency | In-person semi-structured interview | 4 | 4 | 1 | 4 | 1 | 4 | 0 | 0 | 0 | 0 | 0 | 4
| SNAP E&T Job Search Stakeholder Agency (Unique) |  | 4 | 4 | 2 | 8 | 1 | 8 | 0 | 0 | 0 | 0 | 0 | 8
| State E&T Provider | Advance materials and preparation | 3 | 3 | 1 | 3 | 1 | 3 | 0 | 0 | 0 | 0 | 0 | 3
| State E&T Provider | In-person semi-structured interviews with 1 SNAP director/manager at 3 E&T providers | 3 | 3 | 1 | 3 | 1 | 3 | 0 | 0 | 0 | 0 | 0 | 3
| State E&T Provider | In-person semi-structured interviews with 4 frontline staff at 3 E&T providers | 12 | 12 | 1 | 12 | 1 | 12 | 0 | 0 | 0 | 0 | 0 | 12
| State E&T Provider | Observations of E&T Process | 3 | 3 | 1 | 3 | 0.05 | 0.15 | 0 | 0 | 0 | 0 | 0 | 0.15
| Subtotal for State E&T Provider (Unique) |  | 18 | 18 | 1.17 | 21 | 1 | 18.15 | 0 | 0 | 0 | 0 | 0 | 18.15
| Local SNAP Office Staff | Advance materials and preparation | 8 | 8 | 1 | 8 | 1 | 8 | 0 | 0 | 0 | 0 | 0 | 8
| Local SNAP Office staff | In-person semi-structured interviews with 1 SNAP director/manager at 2 sites over 4 States | 8 | 8 | 1 | 8 | 1 | 8 | 0 | 0 | 0 | 0 | 0 | 8
| Local SNAP Office staff | In-person semi-structured interviews with 2 frontline staff in 2 sites over 4 States | 16 | 16 | 1 | 16 | 1 | 16 | 0 | 0 | 0 | 0 | 0 | 16
| Local SNAP Office staff | Group mapping exercise with 5 local staff in 2 sites over 4 States | 40 | 40 | 1 | 40 | 1.5 | 60 | 0 | 0 | 0 | 0 | 0 | 60
| Local SNAP Office staff | Observations of E&T Process | 8 | 8 | 1 | 8 | 0.05 | 0.4 | 0 | 0 | 0 | 0 | 0 | 0.4
| Subtotal for Local SNAP office (Unique) |  | 56 | 56 | 1.43 | 80 | 1.16 | 92.4 | 0 | 0 | 0 | 0 | 0 | 92.4
State/Local/Tribal Government Sub-Total (Unique) | 98 | 98 | 1.52 | 149 | 2.14 | 318.6 | 0 | 0 | 0 | 0 | 0 | 318.6
Business or Other For Profit
Business or Other For Profit | E&T Provider | Advance materials and preparation | 2 | 2 | 1 | 2 | 1 | 2 | 0 | 0 | 0 | 0 | 0 | 2
| E&T Provider | In-person semi-structured interviews with 1 SNAP director/manager at 2 E&T providers | 2 | 2 | 1 | 2 | 1 | 2 | 0 | 0 | 0 | 0 | 0 | 2
| E&T Provider | In-person semi-structured interviews with 4 frontline staff at 2 E&T providers | 8 | 8 | 1 | 8 | 1 | 8 | 0 | 0 | 0 | 0 | 0 | 8
| E&T Provider | Observations of E&T Process | 2 | 2 | 1 | 2 | 0.05 | 0.1 | 0 | 0 | 0 | 0 | 0 | 0.1
Business or Other For Profit Sub-Total (Unique) | 12 | 12 | 1.17 | 14 | 1 | 12.1 | 0 | 0 | 0 | 0 | 0 | 12.1
Not for Profit
Not for Profit | E&T Provider | Advance materials and preparation | 3 | 3 | 1 | 3 | 1 | 3 | 0 | 0 | 0 | 0 | 0 | 3
| E&T Provider | In-person semi-structured interviews with 1 SNAP director/manager at 3 E&T providers | 3 | 3 | 1 | 3 | 1 | 3 | 0 | 0 | 0 | 0 | 0 | 3
| E&T Provider | In-person semi-structured interviews with 4 frontline staff at 3 E&T providers | 12 | 12 | 1 | 12 | 1 | 12 | 0 | 0 | 0 | 0 | 0 | 12
| E&T Provider | Observations of E&T Process | 3 | 3 | 1 | 3 | 0.05 | 0.15 | 0 | 0 | 0 | 0 | 0 | 0.15
Not For Profit Sub-Total (Unique) | 18 | 18 | 1.17 | 21 | 1 | 18.15 | 0 | 0 | 0 | 0 | 0 | 18.15
Individuals
Individuals | SNAP participants | Observations of E&T Process | 16 | 16 | 1 | 16 | 0.05 | 0.8 | 0 | 0 | 0 | 0 | 0 | 0.8
| SNAP participants | Advance Letter and other Participant Recruitment | 310 | 225 | 1 | 225 | 0.25 | 56.25 | 85 | 1 | 85 | 0.05 | 4.25 | 60.5
| SNAP participants | Current and Former Participant Phone Interviews | 225 | 200 | 1 | 200 | 0.50 | 100 | 25 | 1 | 25 | 0.05 | 1.25 | 101.25
SNAP Participant Sub-Total (Unique) | 326 | 241 | 1.83 | 441 | 0.36 | 157.05 | 85 | 2 | 110 | 0.05 | 5.5 | 162.55
| Total |  | 454 | 369 | 1.69 | 625 | 0.81 | 505.85 | 85 | 1 | 110 | 0.05 | 5.5 | 511.35

Dated: March 28, 2019.
Brandon Lipp,
Administrator, Food and Nutrition Service.

[FR Doc. 2019-06879 Filed 4-5-19; 8:45 am]

BILLING CODE 3410-30-P